DEPARTMENT OF TRANSPORTATION

Federal Motor Carrier Safety Administration

[Docket No. FMCSA-2013-0024]

Qualification of Drivers; Exemption Applications; Vision

AGENCY: Federal Motor Carrier Safety Administration (FMCSA), DOT.

ACTION: Notice of applications for exemptions; request for comments.

SUMMARY: FMCSA announces receipt of applications from 8 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before April 18, 2013.

ADDRESSES: You may submit comments bearing the Federal Docket Management System (FDMS) Docket No. FMCSA-2013-0024 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on December 29, 2010 (75 FR 82132), or you may visit http://www.gpo.gov/fdsys/pkg/FR-2010-12-29/pdf/2010-32876.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 8 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Tom Campbell

Mr. Campbell, age 57, has enucleation in his right eye due to a traumatic incident in 1985. The visual acuity in his right eye is no light perception, and in his left eye, 20/20. Following an examination in 2012, his ophthalmologist noted, “Mr. Campbell has sufficient vision to perform the driving tasks required to operate a commercial vehicle.” Mr. Campbell reported that he has driven straight trucks for 6 years, accumulating 60,000 miles. He holds a Class A Commercial Driver's License (CDL) from Pennsylvania. His driving record for the last 3 years shows no crashes and one conviction for a moving violation in a CMV; he exceeded the speed limit by 23 miles per hour.

Joe Cunningham

Mr. Cunningham, 61, has had histoplasmosis in his left eye since 2000. The visual acuity in his right eye is 20/20, and in his left eye, 20/400. Following an examination in 2012, his optometrist noted, “He has sufficient vision to perform the driving tasks required to operate a commercial vehicle.” Mr. Cunningham reported that he has driven straight trucks for 22 years, accumulating 264,000 miles. He holds an operator's license from Indiana. His driving record for the last 3 years shows no crashes and no convictions for moving violations in a CMV.

Dolan A. Gonzalez, Jr.

Mr. Gonzalez, 37, has had amblyopia in his right eye since childhood. The best corrected visual acuity in his right eye is 20/200, and in his left eye, 20/20. Following an examination in 2012, his optometrist noted, “Due to the long-standing nature of these conditions and Dolan's history of previously performing as a commercial driver, it should have no further effect on his driving skills as these are stable and non-progressive.” Mr. Gonzalez reported that he has driven straight trucks for 6 years, accumulating 156,000 miles. He holds an operator's license from Florida. His driving record for the last 3 years shows no crashes but one conviction for a moving violation in a CMV; he passed through/around a barrier.

Paul R. Harpin

Mr. Harpin, 55, has had amblyopia in his right eye since childhood. The best corrected visual acuity in his right eye is 20/100, and in his left eye, 20/15. Following an examination in 2013, his optometrist noted, “I certify that he has sufficient vision to perform the driving tasks required to operate a commercial vehicle.” Mr. Harpin reported that he has driven straight trucks for 18 years, accumulating 540,000 miles, and tractor-trailer combinations for 15 years, accumulating 375,000 miles. He holds a Class A CDL from Arizona. His driving record for the last 3 years shows no crashes and no convictions for moving violations in a CMV.

Terry L. Lipscomb

Mr. Lipscomb, 42, has had refractive amblyopia in his left eye since childhood. The best corrected visual acuity in his right eye is 20/20, and in his left eye, 20/60. Following an examination in 2012, his optometrist noted, “In my opinion, Mr. Lipscomb has sufficient vision to perform the driving tasks required to operate a commercial vehicle.” Mr. Lipscomb reported that he has driven straight trucks for 1 year, accumulating 11,500 miles, and tractor-trailer combinations for 11 years, accumulating 185,900 miles. He holds an operator's license from Alabama. His driving record for the last 3 years shows no crashes and no convictions for moving violations in a CMV.

Donald G. Reed

Mr. Reed, 51, has had amblyopia in his left eye since childhood. The best corrected visual acuity in his right eye is 20/20, and in his left eye, 20/150. Following an examination in 2012, his optometrist noted, “In my professional opinion this patient should have no problems from his eyes or vision to affect his duties as a professional truck driver.” Mr. Reed reported that he has driven straight trucks for 12 years, accumulating 1 million miles, and tractor-trailer combinations for 4 years, accumulating 813,000 miles. He holds a Class A CDL from Illinois. His driving record for the last 3 years shows no crashes and no convictions for moving violations in a CMV.

Randy T. Richardson

Mr. Richardson, 60, has had refractive amblyopia in his right eye since birth. The best corrected visual acuity in his right eye is 20/70, and in his left eye, 20/20. Following an examination in 2013, his optometrist noted, “He can identify traffic signals without difficulty and has sufficient vision to operate a commercial vehicle.” Mr. Richardson reported that he has driven straight trucks for 36 years, accumulating 1.6 million miles. He holds a Class A CDL from Kansas. His driving record for the last 3 years shows no crashes and no convictions for moving violations in a CMV.

James E. Smith

Mr. Smith, 56, has had refractive amblyopia in his left eye since birth. The best corrected visual acuity in his right eye is 20/20, and in his left eye, 20/400. Following an examination in 2012, his optometrist noted, “I have recently examined James E. Smith and I found his vision sufficient to perform the driving task to operate a commercial vehicle as his vision has been stable, he has been safely operating a commercial vehicle for years.” Mr. Smith reported that he has driven straight trucks for 20 years, accumulating 1 million miles, and tractor-trailer combinations for 25, accumulating 2.5 million miles. He holds a Class A CDL from Illinois. His driving record for the last 3 years shows no crashes and no convictions for moving violations in a CMV.

Request for Comments

In accordance with 49 U.S.C. 31136(e) and 31315, FMCSA requests public comment from all interested persons on the exemption petitions described in this notice. The Agency will consider all comments received before the close of business April 18, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: March 8, 2013.
Larry W. Minor,
Associate Administrator for Policy.

[FR Doc. 2013-06193 Filed 3-18-13; 8:45 am]

BILLING CODE 4910-EX-P